DEPARTMENT OF HOMELAND SECURITY

Coast Guard

[Docket No. USCG-2006-24163]

National Environmental Policy Act; Final Environmental Impact Statement on U.S. Coast Guard Pacific Area Operations: Districts 11 and 13

AGENCY: Coast Guard, DHS.

ACTION: Notice of availability and request for comments.

SUMMARY: The U.S. Coast Guard announces the availability of the Final Environmental Impact Statement (FEIS) to implement enhanced environmental protection measures, as necessary, for marine protected species (MPS) and marine protected areas (MPAs) that occur in the Coast Guard's District 11 (California) and 13 (Oregon and Washington) areas of responsibility (AORs). The FEIS analyzes the potential environmental impacts of specific Coast Guard vessel and aircraft operations on MPS and MPAs when engaged in the following missions and activities: law enforcement, national security, search and rescue (SAR), aids to navigation (ATON), and oil pollution and vessel grounding response. We request your comments on the FEIS.

DATES: Comments and related material must either be submitted to our online docket via http://www.regulations.gov on or before June 1, 2010 or reach the Docket Management Facility by that date.

ADDRESSES: You may submit comments identified by docket number USCG-2006-24163 using any of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail LCDR Jeff Bray, Office of Environmental and Real Property Law, Coast Guard; telephone 202-372-3752, e-mail JEFF.R.BRAY@USCG.MIL. If you have questions on viewing or submitting material to the docket, call Renee V. Wright, Program Manager, Docket Operations, telephone 202-366-9826.

SUPPLEMENTARY INFORMATION:

Public Participation and Request for Comments

We encourage you to submit comments and related material on the FEIS. All comments received will be posted, without change, to http://www.regulations.gov and will include any personal information you have provided.

Submitting comments: If you submit a comment, please include the docket number for this notice (USCG-2006-24163) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2006-24163” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments, Draft Environmental Impact Statement (DEIS), FEIS, and associated documents: To view the comments, FEIS, DEIS, and other documents, go to http://www.regulations.gov, click on the “read comments” box, which will then become highlighted in blue. In the “Keyword” box, insert “USCG-2006-24163” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility. In addition, the Coast Guard has posted the FEIS at the following Web site: http://pacareaeis.uscg.e2m-inc.com.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Final Environmental Impact Statement

We have prepared an FEIS to implement enhanced protective measures, as necessary, for MPS and MPAs that occur in the Eleventh Coast Guard District (California) (D11) and Thirteenth Coast Guard District (Washington and Oregon) (D13) AORs. The FEIS analyzes the potential environmental impacts of specific Coast Guard vessel and aircraft operations on MPS and MPAs when engaged in law enforcement, national security, SAR, ATON, and oil pollution and vessel grounding response.

The Coast Guard published a notice of intent to prepare an EIS in the Federal Register (71 FR 14233, Mar. 21, 2006). The Cost Guard provided a 45-day public review period for the DEIS. The public review period was initiated through publication of a Notice of Availability in the Federal Register (73 FR 77043, Dec. 18, 2008).

Alternatives Analyzed

The FEIS evaluates a variety of actions, listed below as Alternatives 1 through 6, to determine whether modification or supplementation of current procedures is required to accomplish the wide variety of Coast Guard missions in a manner that lessens the probability of adverse impacts on MPS and MPAs. Alternative 1, the No Action Alternative, documents baseline strategies the Coast Guard currently employs to protect marine resources in the D11 and D13 AOR. Alternatives 2 through 5 present discrete actions and are evaluated individually to determine whether their implementation is reasonable and would serve the purpose and need of minimizing and avoiding negative impacts on MPS and MPAs. Alternatives 2 through 5 are designed to augment or otherwise amend all those actions described in the No Action Alternative. Alternative 6, the Coast Guard's Preferred Alternative, represents a combination of select components of Alternatives 1 through 5.

Alternative 1—No Action Alternative: Under the No Action Alternative, the Coast Guard would continue current operations, without augmentation or modification. Existing strategic plans, directives, guidance, and permits would continue to guide Coast Guard vessel and aircraft operations in a manner intended to minimize, to the maximum extent possible, adverse impacts on MPS and MPAs. The level of protected living marine resources (LMR) efforts would continue to be balanced with other Coast Guard missions and requirements, and would remain constantly in flux due to other mission responsibilities and requisite operational tempo. The analysis of the No Action Alternative takes into account the increased number of vessels and aircraft operating in the D11 and D13 AORs since September 11, 2001, and the associated expansion of asset mission duties and responsibilities.

Alternative 2—Enhanced Operational Procedures: Implement Improved Local Operating Procedures; Revise Coast Guard Speed and Approach Guidance; and Enhance Law Enforcement Operations to include “pulse operations”: This alternative would amend, append, eliminate portions of, or wholly incorporate the No Action Alternative and would build upon the existing Protected Living Marine Resources Program (PLMRP) at each district by formalizing localized operational mitigation procedures and protection efforts, strengthening and expanding Coast Guard speed and approach guidance, and better unifying interdistrict and intradistrict law enforcement strategies, including engaging in “pulse operations.”

Alternative 3—Enhanced Training Program: Enhance Marine Protected Species and Marine Protected Area Awareness Training for Coast Guard Personnel: This alternative would amend, append, eliminate portions of, or wholly incorporate the No Action Alternative and would build upon the existing PLMRP at each district by requiring the Coast Guard to review and, if necessary, implement enhanced training for Officer of the Deck, coxswain, vessel lookouts, and air station personnel.

Alternative 4—Reporting Program: Implement a Web-based Whale Reporting Program: This alternative would amend, append, eliminate portions of, or wholly incorporate the No Action Alternative and would build upon the existing PLMRP at each district by implementing a Whale Reporting Program for D11 and D13 surface and aviation units. This reporting program would establish real-time, Web-based whale reporting protocols within the Region of Influence. This program would be maintained centrally by Pacific Area (PACAREA) personnel and would collect vital information on real-time locations of live, dead, injured, or entangled whales. The Web site would allow for regional sorting so that units could prepare for a patrol by logging on to the Web site and receiving vital real-time sighting information for the area they would be transiting or patrolling. Implementation of this Alternative would allow deploying Coast Guard assets to have heightened situational awareness of the possible presence of marine species along their intended transit path and patrol area, and would allow units to alter operations accordingly.

Alternative 5—Enhanced Partnership Program: Strengthen Partnerships to Facilitate Marine Protected Species and Marine Protected Area Public Outreach Programs: This alternative would amend, append, eliminate portions of, or wholly incorporate the No Action Alternative and would build upon the existing PLMRP at each district by strengthening joint partnerships and efforts to support the conservation and recovery of MPS and MPAs.

Alternative 6—Environmentally Preferred Alternative: Combination Enhancements: Under the Preferred Alternative, the Coast Guard would further minimize or avoid impacts on MPS and MPAs by strengthening its current operations (No Action Alternative) by incorporating some of the various components described in Alternatives 1, 2, 3, and 5 that could be implemented reasonably and would likely provide some enhancement to marine resource protection. Specifically, this would entail:

1. Implement Improved Local Operating Procedures, Revised Guidance, and Enhanced Law Enforcement Operations

• Annually review and update formal PLMRPs for the districts.

• Require all Sectors, Air Stations, and major Cutters to designate a MPS Point of Contact.

• Update and amend speed and approach guidance to include both vessels and aircraft and continue to update regularly.

• Have each district plan, execute, and document one collaborative MPS-driven pulse operation per year, thereby utilizing resources and the subject matter expertise of our partners.

• Expand an existing program in which National Marine Fisheries Service (NMFS) representatives periodically accompany Coast Guard personnel on LMR missions.

2. Enhance In-House Marine Protected Species and Marine Protected Area Training

• Enhance regional lookout, coxswain, and deck watch officer skills by providing D11 and D13 units a standardized regionally focused MPS awareness training module. Module will include methods for detecting, identifying, and avoiding MPS and ensuring adequate awareness of and responsiveness to the enforcement needs of MPAs.

3. Enhance Partnerships To Facilitate Marine Protected Species and Marine Protected Area Outreach and Conservation

• Require each district to participate in one collaborative MPS public outreach campaign per year.

• Broadcast Notices to Mariners advising caution in known areas of high MPS concentration in bays.

• Include National Oceanic and Atmospheric Administration, the National Marine Sanctuary Program, and the United States Fish and Wildlife Service educational resources on PACAREA's Internet site.

• Utilize the Coast Guard Auxiliary and Sea Partners Program as main vehicles for public outreach. Provide educational materials to the Coast Guard Auxiliary and Sea Partners programs for public distribution.

This notice is issued under authority of 5 U.S.C. 552(a).

Dated: April 10, 2010.
Jody A. Breckenridge,
Vice Admiral, United Stated Coast Guard, Pacific Area Commander.

[FR Doc. 2010-10092 Filed 4-29-10; 8:45 am]

BILLING CODE 9110-04-P